ENVIRONMENTAL PROTECTION AGENCY

[OPP-2005-0274; FRL-7740-3]

AAPCO/SFJREG WC WQ/PD and POM Joint Meeting

AGENCY: Environmental Protection Agency (EPA).

ACTION: Notice.

SUMMARY: The Association of American Pesticide Control Officials (AAPCO)/State FIFRA Issues Research and Evaluation Group (SFIREG) Working Committees on Water Quality and Pesticide Disposal (WC/WQPD) and Pesticide Operations and Management Working Committee (POM) will hold a joint 1-day meeting on October 31, 2005 and simultaneously the two committees will hold separate meetings on November 1, 2005. This notice announces the location and times for the meetings and sets forth the tentative agenda topics.

DATES: The meetings will be held on October 31, 2005 from 8:30 a.m. to 5:15 p.m. and November 1, 2005 from 8:30 a.m. to 12 noon.

ADDRESSES: The meetings will be held at the Doubletree Hotel, 300 Army Navy Drive, Arlington, VA 22202

Requests to participate in the meetings may be submitted to the person listed under FOR FURTHER INFORMATION CONTACT.

FOR FURTHER INFORMATION CONTACT: Georgia McDuffie, FEAD (7506C), Office of Pesticide Programs, Environmental Protection Agency, 1200 Pennsylvania Ave., NW., Washington, DC 20460-0001; telephone number: (703) 605-0195; fax number: (703) 308-1850; e-mail address: mcduffie.georgia@epa.gov or Philip H. Gray, (SFIREG) Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

You may be potentially affected by this action if you are an agricultural producer, food manufacturer, or pesticide manufacturer, or if you are required to conduct testing of chemical substances under the Federal Food, Drug, and Cosmetic Act (FFDCA), or the Federal Insecticide, Fungicide, and Rodenticide Act (FIFRA). Potentially affected entities may include, but are not limited to:

• Crop production (NAICS code 111)

• Animal production (NAICS code 112)

• Food manufacturing (NAICS code 311)

• Pesticide manufacturing (NAICS code 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification (ID) number OPP-2005-0274. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. 22202. This docket facility is open from 8:30 a.m. to 4 p.m., Monday through Friday, excluding legal holidays. The docket telephone number is (703) 305-5805.

2. Electronic access. You may access this Federal Register document electronically through the EPA internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although, not all docket materials may be available electronically, you may still access any of the publicly available docket materials through the docket facility identified in Unit I.B.1. Once in the system, select “search,” then key in the appropriate docket ID number.

II. Tentative Agenda

The tentative agenda for the meeting(s) includes the following:

1. Synchronizing SFIREG issue actions with EPA budget and planning cycles.

2. OPP performance measures - Goals, overview of process, timetables, discussions on draft performance measures to date, and SFIREG and EPA representatives on the performance measure working group.

3. EPA plans to address pesticide drift.

4. Pesticide container recycling.

5. Pesticide container/containment rule.

6. Underground trickle irrigation.

7. Label review committee priorities.

8. Office of Pesticide Programs and Office of Enforcement and Compliance Assurance Report.

9. Water Quality (WQ) Committee - State Reports: Emerging issues and process revisions.

10. WQ Committee -- Water quality performance measures: Continuing discussion.

11. WQ Committee - New directions for the pesticide water quality program.

12. WQ Committee - End of year reporting for water quality programs and mechanisms to provide state water quality data to EPA.

13. WQ Committee - OPP-Office of Water program interactions: Progress report.

14. WQ Committee - Pesticide degradates: Unregulated contaminant monitoring regulation.

15. Pesticide Operations and Management Committee (POM) - Pesticide labels with unclear endangered species language.

16. POM Committee -- Standardized process for section 18 requests with national concerns.

17. POM Committee - Copyright label issue.

18. POM Committee - Rodenticide labels and 2(ee).

19. POM Committee - Mosquito misting products.

20. POM Committee - Issue papers, identify assignments.

List of Subjects

Environmental protection, Office of Pesticide Programs.

Dated: September 28, 2005.
William R. Diamond,
Director, Field and External Affairs Division, Office of Pesticide Programs.

[FR Doc. 05-20099 Filed 10-5-05; 8:45 am]

BILLING CODE 6560-50-S